DEPARTMENT OF DEFENSE

Department of the Air Force

Department of the Navy

Notice of Intent To Prepare an Update to the 2018 Integrated Natural Resources Management Plan and Public Report for the Barry M. Goldwater Range

AGENCY: United States Air Force, United States Marine Corps, Department of Defense.

ACTION: Notice of intent, request for input.

SUMMARY: The U.S. Air Force (USAF), in consultation with the United States Marine Corps (USMC), is issuing this notice of intent (NOI) to conduct a five-year review and update of the Integrated Natural Resources Management Plan (INRMP) for the Barry M. Goldwater Range (BMGR), AZ.

DATES: Meetings were held in Tucson, AZ and Ajo, AZ on 11 January 2023 and 10 May 2023, respectively. A third meeting will be held in Yuma, AZ. The Yuma public meeting will be held as an open house format, with presentation boards and project team members available to answer questions. Upcoming meeting details are as follows:

Thursday, 24 August, 2023. 5:30-7:30 p.m. Yuma County Library District, Main Library, 2951 S 21st Drive, Yuma, AZ 85364

ADDRESSES: Comments related to the Draft BMGR Public Report and BMGR INRMP update may be submitted to: Ms. Jennie Anderson, Center for Environmental Management of Military Lands, (970) 491-5640, Colorado State University, 1490 Campus Delivery, Fort Collins, CO 80523-1490, cemml_INRMPcomments@colostate.edu.

SUPPLEMENTARY INFORMATION: This NOI (40 CFR 1508.22) is to conduct a five-year review and update of the INRMP for the BMGR and prepare a Public Report pursuant to section 3031(b)(5)(B) of the Military Lands Withdrawal Act [MLWA of 1999 (Pub. L. 106-65, Title XXX)]. The public meeting will familiarize the public with the progress made in the management of natural resources and share information about projects planned to support natural resource management during the next five years and facilitate public involvement with the existing Public Report and INRMP for the BMGR.

The Sikes Act (16 U.S.C. 670a) provides that established INRMPs must be reviewed as to their operation and effect not less than every five years. The existing BMGR INRMP will be updated in accordance with the Sikes Act provision in coordination with the Director of the U.S. Fish and Wildlife Service and the Director of the Arizona Game and Fish Department. The USAF and USMC will develop a Public Report summarizing changes in military use of the BMGR since 2018, as well as summarizing management initiatives involving resources found on these lands will be prepared in accordance with the MLWA of 1999.

FOR FURTHER INFORMATION CONTACT: Questions related to the Draft BMGR Public Report and BMGR INRMP update may be submitted to: Ms. Jennie Anderson, Center for Environmental Management of Military Lands, (970) 491-5640, Colorado State University, 1490 Campus Delivery, Fort Collins, CO 80523-1490, cemml_INRMPcomments@colostate.edu.

Tommy W. Lee,
Acting Air Force Federal Register Liaison Officer.

[FR Doc. 2023-15420 Filed 7-19-23; 8:45 am]

BILLING CODE 5001-05-P